FEDERAL MINE SAFETY AND HEALTH REVIEW COMMISSION

Sunshine Act Notice

September 27, 2017.

TIME AND DATE: 10:00 a.m., Thursday, October 12, 2017.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Kentucky Fuel Corporation, Docket No. KENT 2015-383. (Issues include whether the Judge erred in finding high negligence with respect to a violation for inadequate training of a miner.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 867-4769, Passcode: 678-100.

Sarah L. Stewart,
Deputy General Counsel.

[FR Doc. 2017-21056 Filed 9-27-17; 4:15 pm]

BILLING CODE 6735-01-P